DEPARTMENT OF COMMERCE

National Oceanic and Atmospheric Administration

RIN 0648-XF645

Fisheries of the South Atlantic, Gulf of Mexico, and Caribbean; Southeast Data, Assessment, and Review (SEDAR); Amendment

AGENCY: National Marine Fisheries Service (NMFS), National Oceanic and Atmospheric Administration (NOAA), Commerce.

ACTION: Announcement of meeting location change and schedule modification of the SEDAR Steering Committee meeting.

SUMMARY: The SEDAR Steering Committee will meet to discuss the SEDAR process and assessment schedule.

DATES: The SEDAR Steering Committee will meet Tuesday, September 26, 2017, from 1:30 p.m. until 4:30 p.m.

ADDRESSES:

Meeting address: The Steering Committee meeting will be held at the Town and Country Inn, 2008 Savannah Highway, Charleston, SC 29407; telephone: (843) 900-4120.

SEDAR address: South Atlantic Fishery Management Council, 4055 Faber Place Drive, Suite 201, N. Charleston, SC 29405; www.sedarweb.org.

FOR FURTHER INFORMATION CONTACT: John Carmichael, Deputy Executive Director, 4055 Faber Place Drive, Suite 201, North Charleston, SC 29405; phone: (843) 571-4366 or toll free (866) SAFMC-10; fax: (843) 769-4520; email: john.carmichael@safmc.net.

SUPPLEMENTARY INFORMATION: This meeting was previously published in the Federal Register (82 FR 42544). This is notification of a change in meeting location and duration. The meeting was originally scheduled to occur on Tuesday, September 26 and Wednesday, September 27, at the Crown Plaza Charleston Airport in North Charleston SC. This change is being made due to a change in scheduling of a meeting of the South Atlantic Fishery Management Council in response to hazardous weather. The meeting will be accessible via webinar. The items for discussion are unchanged, and are as follows:

1. Research Track Process

2. SEDAR Current Projects Update

3. SEDAR Future Projects Schedule

4. Budget Report

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Special Accommodations

This meeting is accessible to people with disabilities. Requests for auxiliary aids should be directed to the SAFMC office (see ADDRESSES) at least 3 business days prior to the meeting.

Note: The times and sequence specified in this agenda are subject to change.

Authority: 16 U.S.C. 1801 et seq.

Dated: September 8, 2017.
Jeffrey N. Lonergan,
Acting Deputy Director, Office of Sustainable Fisheries, National Marine Fisheries Service.

[FR Doc. 2017-19439 Filed 9-12-17; 8:45 am]

BILLING CODE 3510-22-P